FEDERAL TRADE COMMISSION

16 CFR Chapter I

Regulatory Review; Notice of Intent To Request Public Comments

AGENCY: Federal Trade Commission.

ACTION: Notice of intent to request public comments.

SUMMARY: As part of its ongoing systematic review of all Federal Trade Commission (“Commission”) rules and guides, the Commission gives notice that it intends to request public comments on the rule and guides listed below during 2002. The Commission will request comments on, among other things, the economic impact of, and the continuing need for, the rule and guides; possible conflict between the rule and guides and state, local, or other federal laws or regulations; and the effect on the rule and guides of any technological, economic, or other industry changes. No Commission determination on the need for or the substance of the rule and guides should be inferred from the intent to publish requests for comments.

FOR FURTHER INFORMATION CONTACT: Further details may be obtained from the contact person listed for the particular item.

SUPPLEMENTARY INFORMATION: The Commission intends to initiate a review of and solicit public comments on the following rule and guides during 2002:

(1) Guides Concerning Use of Endorsements and Testimonials in Advertising, 16 CFR 255. Agency Contact: Richard Cleland, Federal Trade Commission, Bureau of Consumer Protection, Division of Advertising Practices, 600 Pennsylvania Ave., NW, Washington, DC 20580, (202) 326-3088.

(2) Labeling Requirements for Alternative Fuels and Alternative Fueled Vehicles, 16 CFR 309. Agency Contact: Neil Blickman, Federal Trade Commission, Bureau of Consumer Protection, Division of Enforcement, 600 Pennsylvania Ave., NW, Washington, DC 20580, (202) 326-3038.

As part of its ongoing program to review all current Commission rules and guides, the Commission also has tentatively scheduled reviews of other rules and guides for 2003 through 2011. A copy of this tentative schedule is appended. The Commission may in its discretion modify or reorder the schedule in the future to incorporate new legislative rules, or to respond to external factors (such as changes in the law) or other considerations.

Authority: 15 U.S.C. 41-58.

By direction of the Commission.
Donald S. Clark,
Secretary.

Appendix—Regulatory Review Modified Revolving Ten-Year Schedule
16 CFR Part | Topic | Year to review
255 | Guides Concerning Use of Endorsements and Testimonials in Advertising | 2002
309 | Labeling Requirements for Alternative Fuels and Alternative Fueled Vehicles | 2002
228 | Tire Advertising and Labeling Guides | 2003
304 | Rules and Regulations under the Hobby Protection Act | 2003
600 | Statements of General Policy or Interpretations Under the Fair Credit Reporting Act | 2003
18 | Guides for the Nursery Industry | 2004
410 | TV Picture Tube Size Rule | 2004
424 | Retail Food Store Advertising and Marketing Practices Rule | 2004
14 | Administrative Interpretations, General Policy Statements, and Enforcement Policy Statements | 2005
311 | Recycled Oil Rule | 2005
312 | Children's Online Privacy Protection Rule | 2005
444 | Credit Practices Rule | 2005
455 | Used Car Rule | 2005
24 | Guides for Select Leather and Imitation Leather Products | 2006
435 | Mail or Telephone Order Merchandise Rule | 2006
500 | Regulations Under Section 4 of the Fair Packaging and Labeling Act (“FPLA”) | 2006
501 | Exemptions from Part 500 of the FPLA | 2006
502 | Regulations Under Section 5(c) of the FPLA | 2006
503 | Statements of General Policy or Interpretations Under the FPLA | 2006
305 | Appliance Labeling Rule | 2007
306 | Automotive Fuel Ratings, Certification and Posting Rule | 2007
429 | Cooling Off Rule | 2007
601 | Summary of Consumer Rights, Notice of User Responsibilities, and Notice of Furnisher Responsibilities under the Fair Credit Reporting Act | 2007
254 | Guides for Private Vocational and Distance Education Schools | 2008
260 | Guides for the use of Environmental Marketing Claims | 2008
300 | Rules and Regulations under the Wool Products Labeling Act of 1939 | 2008
301 | Rules and Regulations under the Fur Products Labeling Act | 2008
303 | Rules and Regulations under the Textile Fiber Products Identification Act | 2008
425 | Rule Concerning the Use of Negative Option Plans | 2008
239 | Guides for the Advertising of Warranties and Guarantees | 2009
433 | Preservation of Consumers' Claims and Defenses Rule | 2009
700 | Interpretations of Magnuson-Moss Warranty Act | 2009
701 | Disclosure of Written Consumer Product Warranty Terms and Conditions | 2009
702 | Pre-sale Availability of Written Warranty Terms | 2009
703 | Informal Dispute Settlement Procedures | 2009
23 | Guides for the Jewelry, Precious Metals, and Pewter Industries | 2010
423 | Care Labeling Rule | 2010
20 | Guides for the Rebuilt, Reconditioned and Other Used Automobile Parts Industry | 2011
233 | Guides Against Deceptive Pricing | 2011
238 | Guides Against Bait Advertising | 2011
240 | Guides for Advertising Allowances and Other Merchandising Payments and Services | 2011
251 | Guide Concerning Use of the Word “Free” and Similar Representations | 2011
259 | Guide Concerning Fuel Economy Advertising for New Automobiles | 2011

[FR Doc. 02-5124 Filed 3-1-02; 8:45 am]

BILLING CODE 6750-01-M